SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: January 1-January 31, 2015.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net . Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f):

1. Chief Oil & Gas LLC, Pad ID: Castrogiovanni Drilling Pad #1, ABR-20100674.R1, Elkland Township, Sullivan County, Pa.; Consumptive Use of Up to 2.000 mgd; Approval Date: January 6, 2015.

2. Chief Oil & Gas LLC, Pad ID: McCarty Drilling Pad #1, ABR-20100676.R1, Elkland Township, Sullivan County, Pa.; Consumptive Use of Up to 2.000 mgd; Approval Date: January 6, 2015.

3. Chief Oil & Gas LLC, Pad ID: Signore Drilling Pad #1, ABR-20100697.R1, Elkland Township, Sullivan County, Pa.; Consumptive Use of Up to 2.000 mgd; Approval Date: January 6, 2015.

4. Chief Oil & Gas LLC, Pad ID: Waldeisen-Ladd Drilling Pad, ABR-20100699.R1, Fox Township, Sullivan County, Pa.; Consumptive Use of Up to 2.000 mgd; Approval Date: January 6, 2015.

5. Pennsylvania General Energy Company, LLC, Pad ID: Ogdensburg Gun Club Pad A, ABR-201501001, Union Township, Tioga County, Pa.; Consumptive Use of Up to 2.500 mgd; Approval Date: January 9, 2015.

6. Southwestern Energy Production Company, Pad ID: NR-18 Oak Ridge Pad, ABR-201501002, Oakland Township, Susquehanna County, Pa.; Consumptive Use of Up to 4.999 mgd; Approval Date: January 9, 2015.

7. Cabot Oil & Gas Corporation, Pad ID: OakleyJ P1, ABR-20100603.R1, Springville Township, Susquehanna County, Pa.; Consumptive Use of Up to 3.575 mgd; Approval Date: January 9, 2015.

8. Cabot Oil & Gas Corporation, Pad ID: Post P1, ABR-20100605.R1, Brooklyn Township, Susquehanna County, Pa.; Consumptive Use of Up to 3.575 mgd; Approval Date: January 9, 2015.

9. Cabot Oil & Gas Corporation, Pad ID: Lauffer P1, ABR-20100608.R1, Springville Township, Susquehanna County, Pa.; Consumptive Use of Up to 3.575 mgd; Approval Date: January 9, 2015.

10. Cabot Oil & Gas Corporation, Pad ID: StockholmK P3, ABR-20100609.R1, Rush Township, Susquehanna County, Pa.; Consumptive Use of Up to 3.575 mgd; Approval Date: January 9, 2015.

11. Cabot Oil & Gas Corporation, Pad ID: HullR P2, ABR-20100612.R1, Springville Township, Susquehanna County, Pa.; Consumptive Use of Up to 3.575 mgd; Approval Date: January 9, 2015.

12. Cabot Oil & Gas Corporation, Pad ID: StockholmK P1, ABR-20100663.R1, Dimock Township, Susquehanna County, Pa.; Consumptive Use of Up to 3.575 mgd; Approval Date: January 9, 2015.

13. SWEPI LP, Pad ID: Marshlands H. Bergey Unit #1, ABR-20091230.R1, Gaines Township, Tioga County, Pa.; Consumptive Use of Up to 4.990 mgd; Approval Date: January 9, 2015.

14. SWEPI LP, Pad ID: Marshlands K. Thomas Unit #1, ABR-20091231.R1, Elk Township, Tioga County, Pa.; Consumptive Use of Up to 4.990 mgd; Approval Date: January 9, 2015.

15. SWEPI LP, Pad ID: Lick Run Pad, ABR-20091232.R1, Gaines Township, Tioga County, Pa.; Consumptive Use of Up to 4.990 mgd; Approval Date: January 9, 2015.

16. SWEPI LP, Pad ID: Hillside Pad, ABR-20091233.R1, Gaines Township, Tioga County, Pa.; Consumptive Use of Up to 4.990 mgd; Approval Date: January 9, 2015.

17. SWEPI LP, Pad ID: Button B 901 Pad, ABR-20091234.R1, West Branch Township, Potter County, Pa.; Consumptive Use of Up to 4.990 mgd; Approval Date: January 9, 2015.

18. Cabot Oil & Gas Corporation, Pad ID: PowersN P1, ABR-201501003, Forest Lake Township, Susquehanna County, Pa.; Consumptive Use of Up to 4.250 mgd; Approval Date: January 13, 2015.

19. Carrizo (Marcellus), LLC, Pad ID: Sickler 5H, ABR-20100679.R1, Washington Township, Wyoming County, Pa.; Consumptive Use of Up to 1.400 mgd; Approval Date: January 14, 2015.

20. Carrizo (Marcellus), LLC, Pad ID: Solanick 5H, ABR-201007007.R1, Washington Township, Wyoming County, Pa.; Consumptive Use of Up to 1.400 mgd; Approval Date: January 14, 2015.

21. Chief Oil & Gas LLC, Pad ID: Squier Drilling Pad #1, ABR-201007008.R1, Springville Township, Susquehanna County, Pa.; Consumptive Use of Up to 2.000 mgd; Approval Date: January 16, 2015.

22. Pennsylvania General Energy Company, LLC, Pad ID: COP Tract 729 Pad C, ABR-201008051.R1, Cummings Township, Lycoming County, Pa.; Consumptive Use of Up to 3.000 mgd; Approval Date: January 16, 2015.

23. Pennsylvania General Energy Company, LLC, Pad ID: COP Tract 729 Pad D, ABR-201008052.R1, Cummings Township, Lycoming County, Pa.; Consumptive Use of Up to 3.000 mgd; Approval Date: January 16, 2015.

24. Pennsylvania General Energy Company, LLC, Pad ID: Shannon Todd Pad A, ABR-201009006.R1, Todd Township, Huntingdon County, Pa.; Consumptive Use of Up to 3.000 mgd; Approval Date: January 16, 2015.

25. Inflection Energy (PA), LLC, Pad ID: Fox Well Site, ABR-201501004, Eldred Township, Lycoming County, Pa.; Consumptive Use of Up to 4.000 mgd; Approval Date: January 29, 2015.

26. Chesapeake Appalachia, LLC, Pad ID: Yengo, ABR-20100206.R1, Cherry Township, Sullivan County, Pa.; Consumptive Use of Up to 7.500 mgd; Approval Date: January 30, 2015.

27. Chesapeake Appalachia, LLC, Pad ID: Allford, ABR-20100412.R1, Smithfield Township, Bradford County, Pa.; Consumptive Use of Up to 7.500 mgd; Approval Date: January 30, 2015.

28. Chesapeake Appalachia, LLC, Pad ID: A&M, ABR-201501005, Wilmot Township, Bradford County, Pa.; Consumptive Use of Up to 7.500 mgd; Approval Date: January 30, 2015.

29. Chesapeake Appalachia, LLC, Pad ID: Samantha, ABR-201501006, Forkston Township, Wyoming County, Pa.; Consumptive Use of Up to 7.500 mgd; Approval Date: January 30, 2015.

Authority: Pub. L. 91-575, 84 Stat. 1509 et seq., 18 CFR parts 806, 807, and 808.

Dated: April 2, 2015.
Stephanie L. Richardson,
Secretary to the Commission.

[FR Doc. 2015-08253 Filed 4-9-15; 8:45 am]

BILLING CODE P 7040-01-P